DEPARTMENT OF COMMERCE

National Oceanic and Atmospheric Administration

50 CFR Part 622

[Docket No. 231127-0277; RTID 0648-XE001]

Fisheries of the Caribbean, Gulf of Mexico, and South Atlantic; 2024 Commercial Closure for Snowy Grouper in the South Atlantic

AGENCY: National Marine Fisheries Service (NMFS), National Oceanic and Atmospheric Administration (NOAA), Commerce.

ACTION: Temporary rule; closure.

SUMMARY: NMFS implements an accountability measure (AM) for the commercial harvest of snowy grouper in South Atlantic Federal waters. NMFS projects commercial landings of snowy grouper will reach the commercial quota for the January through June season. Therefore, NMFS closes Federal waters in the South Atlantic for the commercial harvest of snowy grouper until the July through December season begins. This closure is necessary to protect the snowy grouper resource.

DATES: This temporary rule is effective from June 4, 2024, through June 30, 2024.

FOR FURTHER INFORMATION CONTACT: Jack McGovern, NMFS Southeast Regional Office, phone: 727-204-5518, email: john.mcgovern@noaa.gov.

SUPPLEMENTARY INFORMATION: The snapper-grouper fishery of the South Atlantic includes snowy grouper and is managed under the Fishery Management Plan for the Snapper-Grouper Fishery of the South Atlantic Region (FMP). The FMP was prepared by the South Atlantic Fishery Management Council and NMFS, and is implemented by NMFS under the authority of the Magnuson-Stevens Fishery Conservation and Management Act (Magnuson-Stevens Act) by regulations at 50 CFR part 622. All weights described in this temporary rule are in gutted weight.

The commercial annual catch limit (ACL) for snowy grouper in 2024 is 106,174 pounds (lb) or 48,160 kilograms (kg). The commercial ACL is divided into two commercial quotas, one quota for each 6-month fishing season. Seventy percent of the commercial quota is allocated for the January through June commercial fishing season and is 74,322 lb (33,712 kg) for 2024. The remaining 30 percent of the commercial ACL and commercial quota for the July through December fishing season is 31,852 lb (14,448 kg) for 2024. 50 CFR 622.190(a)(1)(i)(B) and (ii)(B). Any commercial quota remaining from the first season is added to the commercial quota in second season, but any commercial quota remaining from the second season is not carried forward into the next fishing year.

Under 50 CFR 622.193(b)(1), NMFS is required to close the commercial sector for snowy grouper when the commercial quota specified in 50 CFR 622.190(a)(1) is reached or is projected to be reached, by filing a notification to that effect with the Office of the Federal Register. NMFS projects that commercial landings of snowy grouper will reach the commercial quota for January through June 2024 by June 4, 2024. Accordingly, the commercial sector for South Atlantic snowy grouper is closed starting on June 4, 2024, and remains closed until the start of the next commercial fishing season on July 1, 2024.

The operator of a vessel with a valid commercial vessel permit for South Atlantic snapper-grouper having snowy grouper on board must have landed and bartered, traded, or sold such snowy grouper before June 4, 2024. During the commercial closure, harvest and possession of snowy grouper in or from South Atlantic Federal waters is limited to the bag and possession limits, as specified in § 622.187(b)(2)(ii) and (c)(1). Also during the commercial closure, the sale or purchase of snowy grouper taken from South Atlantic Federal waters is prohibited. The prohibition on sale or purchase does not apply to the sale or purchase of snowy grouper that were harvested, landed ashore, and sold before June 4, 2024, and were held in cold storage by a dealer or processor.

For a person on a vessel issued a valid Federal commercial or charter vessel/headboat permit for South Atlantic snapper-grouper, the bag and possession limits and the sale and purchase provisions during the commercial closure for snowy grouper apply regardless of whether the fish are harvested in state or Federal waters, as specified in 50 CFR 622.190(c)(1)(ii).

Classification

NMFS issues this action pursuant to section 305(d) of the Magnuson-Stevens Act. This action is required by 50 CFR 622.193(b)(1), which was issued pursuant to section 304(b) of the Magnuson-Stevens Act, and is exempt from review under Executive Order 12866.

These measures are exempt from the procedures of the Regulatory Flexibility Act because the temporary rule is issued without opportunity for prior notice and comment.

Pursuant to 5 U.S.C. 553(b)(B), there is good cause to waive prior notice and an opportunity for public comment as such procedures are unnecessary and contrary to the public interest. Such procedures are unnecessary because the regulations associated with the commercial quota for South Atlantic snowy grouper have already been subject to notice and comment, and all that remains is to notify the public of the commercial closure for the remainder of the January through June fishing season this year. Prior notice and opportunity for public comment on this action is contrary to the public interest because of the need to immediately implement the commercial closure to protect South Atlantic snowy grouper, because the capacity of the fishing fleet allows for rapid harvest of the commercial quota. Prior notice and opportunity for public comment would require time and would potentially result in a harvest that exceeds the commercial quota.

For the reasons just stated, there is good cause under 5 U.S.C. 553(d)(3) to waive the 30-day delay in the effective date of this action.

Authority: 16 U.S.C. 1801 et seq.

Dated: May 29, 2024.
Karen H. Abrams,
Acting Director, Office of Sustainable Fisheries, National Marine Fisheries Service.

[FR Doc. 2024-12219 Filed 5-30-24; 4:15 pm]

BILLING CODE 3510-22-P